FEDERAL COMMUNICATIONS COMMISSION

47 CFR Part 25

[IB Docket Nos. 12-376, FCC 12-161]

Earth Stations Aboard Aircraft

AGENCY: Federal Communications Commission.

ACTION: Final rule; announcement of effective date.

SUMMARY: In this document, the Commission announces that the Office of Management and Budget (OMB) has approved, for a period of three years, the information collection associated with the Commission's Earth Station Aboard Aircraft, Report and Order (Order), which adopted licensing and service rules for Earth Stations Aboard Aircraft (ESAA) communicating with Fixed-Satellite Service geostationary-orbit space stations operating in the 10.95-11.2 GHz, 11.45-11.7 GHz, 11.7-12.2 GHz and 14.0-14.5 GHz frequency bands. This notice is consistent with the Order, which stated that the Commission would publish a document in the Federal Register announcing the effective date for the new information requirements adopted.

DATES: The amendments to 47 CFR 25.132(b)(3), 25.227(b), (c), and (d) published at 78 FR 14920 on March 8, 2013, are effective on November 12, 2013.

FOR FURTHER INFORMATION CONTACT: Andrea Kelly, Satellite Division, International Bureau, at (202) 418-7877.

SUPPLEMENTARY INFORMATION: This document announces that, on June 27, 2013, OMB approved, for a period of three years, the information collection requirements relating to ESAA applications contained in the Commission's Order, FCC 12-161, published at 78 FR 14920, March 8, 2013. The OMB Control Number is 3060-1187. The Commission publishes this notice as an announcement of the effective date of the rules. If you have any comments on the burden estimates listed below, or how the Commission can improve the collections and reduce any burdens caused thereby, please contact Cathy Williams, Federal Communications Commission, Room 1-C823, 445 12th Street SW., Washington, DC 20554. Please include the OMB Control Number, 3060-1187, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on June 27, 2013, for the information collection requirements contained in the modifications to the Commission's rules in 47 CFR part 25. Under 5 CFR 1320, an agency may not conduct or sponsor a collection of information unless it displays a current, valid OMB Control Number.

No person shall be subject to any penalty for failing to comply with a collection of information subject to the Paperwork Reduction Act that does not display a current, valid OMB Control Number. The OMB Control Number is 3060-1187.

The foregoing notice is required by the Paperwork Reduction Act of 1995, Pub. L. 104-13, October 1, 1995, and 44 U.S.C. 3507.

The total annual reporting burdens and costs for the respondents are as follows:

OMB Control Number: 3060-1187.

OMB Approval Date: June 27, 2013.

OMB Expiration Date: June 30, 2016.

Title: Earth Stations Aboard Aircraft (ESAA).

Form Number: N/A.

Respondents: Business or other for-profit entities.

Number of Respondents and Responses: 6 respondents; 54 responses.

Estimated Time per Response: 1-4 hours.

Frequency of Response: On occasion reporting requirement; Third party disclosure requirement.

Obligation to Respond: Required to obtain or retain benefits. The Commission has statutory authority for the information collection requirements under Sections 4(i), 4(j), 7(a), 302(a), 303(c), 303(e), 303(f), 303(g), 303(j), 303(r), and 303(y) of the Communications Act of 1934, as amended, 47 U.S.C. 154(i), 154(j), 157(a), 302(a), 303(c), 303(e), 303(f), 303(g), 303(j), 303(r), and 303(y).

Total Annual Burden: 114 hours.

Total Annual Cost: $16,200.

Nature and Extent of Confidentiality: An assurance of confidentiality is not offered because this information collection does not require the collection of personally identifiable information (PII) from individuals.

Privacy Act: No impact(s).

Needs and Uses: The ESAA Report and Order, FCC 12-161, implements ESAA as an application of the Fixed-Satellite Service (FSS). In particular, the ESAA Report and Order designated ESAA as a primary FSS use in the 11.7-12.2 GHz (space-to-Earth) band; an unprotected use in the 10.95-11.2 GHz and 11.45-11.7 GHz (space-to-Earth) bands; and a secondary use in the 14.0-14.5 GHz band (Earth-to-space). The ESAA Report and Order required ESAA licensees to coordinate their operations with stations in the Space Research Service and the Radioastronomy Service, adopted technical rules for the operation of ESAA systems to ensure that ESAA systems do not interfere with other FSS users or terrestrial Fixed Service (FS) users; and adopted licensing requirements and operational requirements for ESAA for both U.S.-registered aircraft operating in and outside U.S. airspace and for non-U.S.-registered aircraft operating in U.S. airspace. Each applicant for an earth station, including ESAA operators, must submit a comprehensive proposal for each proposed earth station (FCC Form 312, Schedule B, and attached narrative exhibits) to the Commission to demonstrate that it complies with the Commission's legal and/or engineering rules.

Federal Communications Commission.
Marlene H. Dortch,
Secretary, Office of the Secretary, Office of Managing Director.

[FR Doc. 2013-26784 Filed 11-8-13; 8:45 am]

BILLING CODE 6712-01-P